DEPARTMENT OF COMMERCE

National Oceanic and Atmospheric Administration

[RTID 0648-XE837]

Marine Mammals; File No. 28860

AGENCY: National Marine Fisheries Service (NMFS), National Oceanic and Atmospheric Administration (NOAA), Commerce.

ACTION: Notice; receipt of application.

SUMMARY: Notice is hereby given that the British Broadcasting Corporation (BBC) Natural History and Factual Productions Ltd. and BBC Studios Americas Inc., (Responsible Party: Sarah Conner), Bridgewater House, Counterslip, Redcliffe, Bristol, BS1 6BX, United Kingdom, has applied in due form for a permit to conduct commercial and educational photography on pinnipeds.

DATES: Written comments must be received on or before June 13, 2025.

ADDRESSES: These documents are available upon written request via email to NMFS.Pr1Comments@noaa.gov.

Written comments on this application should be submitted via email to NMFS.Pr1Comments@noaa.gov. Please include “File No. 28860” in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Sara Young, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant requests a 1-year permit to film Weddell seals (Leptonychotes weddellii), crabeater seals (Lobodon carcinophagus), and leopard seals (Hydrurga leptonyx) in Antarctica for an episode of “Blue Planet III”. Up to 300 Weddell seals and 50 each crabeater and leopard seals may be filming by underwater, land-based, and unmanned aircraft system platforms.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 9, 2025.
Kimberly Damon-Randall,
Director, Office of Protected Resources, National Marine Fisheries Service.

[FR Doc. 2025-08520 Filed 5-13-25; 8:45 am]

BILLING CODE 3510-22-P